DEPARTMENT OF AGRICULTURE

Forest Service

Deschutes Provincial Advisory Committee (DPAC)

AGENCY: Forest Service, USDA.

ACTION: Notice of meeting.

SUMMARY: The Deschutes Provincial Advisory Committee will meet on December 12th, 2003 starting at 9 a.m. at the Mid-Oregon Federal Credit Union Conference Room on 1386 NE Cushing (near the corner of 27th and Neff), Bend, Oregon. Agenda items will include an overview of the fire history on the Deschutes National Forest, the district fire recovery briefings, Recreation Fee Demo Project, and the Lower Deschutes River limited entry system. The remainder of the day will include info sharing and a Public Forum from 4 p.m. till 4:30 p.m. All Deschutes Province Advisory Committee Meetings are open to the public.

FOR FURTHER INFORMATION CONTACT: Chris Mickle, Province Liaison, Deschutes NF, Crescent RD, P.O. Box 208, Crescent, OR 97754, Phone (541) 433-3216.

Dated: November 20, 2003.
Leslie A.C. Weldon,
Deschutes National Forest Supervisor.

[FR Doc. 03-29633 Filed 11-25-03; 8:45 am]

BILLING CODE 3410-11-M